DEPARTMENT OF THE TREASURY

Office of Foreign Assets Control

Unblocking of Specially Designated Nationals and Blocked Persons, Executive Order 12978

AGENCY: Office of Foreign Assets Control, Treasury.

ACTION: Notice.

SUMMARY: The Department of the Treasury's Office of Foreign Assets Control (OFAC) is publishing the names of four individuals whose property and interests in property have been unblocked pursuant to Executive Order 12978 of October 21, 1995, “Blocking Assets and Prohibiting Transactions With Significant Narcotics Traffickers”.

DATES: The unblocking and removal from the list of Specially Designated Nationals and Blocked Persons (SDN List) of the four individuals identified in this notice whose property and interests in property were blocked pursuant to Executive Order 12978 of October 21, 1995, is effective on August 4, 2016.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site at (www.treasury.gov/ofac) or via facsimile through a 24-hour fax-on demand service at (202) 622-0077.

Background

On October 21, 1995, the President, invoking the authority, inter alia, of the International Emergency Economic Powers Act (50 U.S.C. 1701-1706) (IEEPA), issued Executive Order 12978 (60 FR 54579, October 24, 1995) (the Order). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On August 4, 2016, the Associate Director of OFAC's Office of Global Targeting removed from the SDN List the individuals listed below, whose property and interests in property were blocked pursuant to the Order:

Individuals

1. CAICEDO VERGARA, Nohemy (a.k.a. CAICEDO VERGARA, Nohemi), Km. 4 El Pinal, Buenaventura, Colombia; c/o INDUSTRIA DE PESCA SOBRE EL PACIFICO S.A., Buenaventura, Colombia; Cedula No. 31375185 (Colombia) (individual) [SDNT].

2. CARRILLO LUNA, Andres Felipe, c/o ADMINISTRADORA GANADERA EL 45 LTDA., Medellin, Colombia; c/o CASA DEL GANADERO S.A., Medellin, Colombia; c/o GANADERIA LUNA HERMANOS LTDA., Medellin, Colombia; c/o INVERSIONES EL MOMENTO S.A., Medellin, Colombia; c/o SOCIEDAD MINERA GRIFOS S.A., El Bagre, Antioquia, Colombia; Calle 10C No. 25-41, Medellin, Colombia; Carrera 78A No. 33A-76, Medellin, Colombia; 801 Brickell Key Blvd., unit 1907, Miami, FL 33131, United States; DOB 25 May 1986; alt. DOB 24 May 1986; POB Puerto Asis, Putumayo, Colombia; Cedula No. 1037572288 (Colombia); Passport AJ723916 (Colombia); alt. Passport RC10058210 (Colombia) (individual) [SDNT].

3. CARRILLO LUNA, Paula Andrea, c/o ADMINISTRADORA GANADERA EL 45 LTDA., Medellin, Colombia; c/o CASA DEL GANADERO S.A., Medellin, Colombia; c/o GANADERIA LUNA HERMANOS LTDA., Medellin, Colombia; c/o INVERSIONES EL MOMENTO S.A., Medellin, Colombia; c/o SOCIEDAD MINERA GRIFOS S.A., El Bagre, Antioquia, Colombia; Carrera 78A No. 33A-76, Medellin, Colombia; 13315 SW 128 Passage, Miami, FL 33186, United States; DOB 25 Dec 1983; POB Puerto Asis, Putumayo, Colombia; Cedula No. 32244809 (Colombia); Passport AJ775569 (Colombia) (individual) [SDNT].

4. TREJOS AGUILAR, Sonia, Carrera 8 No. 6-37, Zarzal, Valle del Cauca, Colombia; Cali, Colombia; c/o AGROINVERSORA URDINOLA HENAO Y CIA. S.C.S., Cali, Colombia; c/o EXPLOTACIONES AGRICOLAS Y GANADERAS LA LORENA S.C.S., Cali, Colombia; c/o INDUSTRIAS AGROPECUARIAS DEL VALLE LTDA., Cali, Colombia; c/o INVERSIONES EL EDEN S.C.S., Cali, Colombia; Cedula No. 66675927 (Colombia) (individual) [SDNT].

Dated: August 4, 2016.
Gregory T. Gatjanis
Associate Director, Office of Global Targeting, Office of Foreign Assets Control.

[FR Doc. 2016-18845 Filed 8-8-16; 8:45 am]

BILLING CODE 4810-AL-P